DEPARTMENT OF COMMERCE

National Oceanic and Atmospheric Administration

[RTID 0648-XA620]

Marine Mammals; Issuance of Permits

AGENCY: National Marine Fisheries Service (NMFS), National Oceanic and Atmospheric Administration (NOAA), Commerce.

ACTION: Notice; issuance of permits.

SUMMARY: Notice is hereby given that individuals and institutions have been issued Letters of Confirmation (LOCs) for activities conducted under the General Authorization for Scientific Research on marine mammals. See SUPPLEMENTARY INFORMATION for a list of names and address of recipients.

ADDRESSES: The LOCs and related documents are available for review upon written request via email to NMFS.Pr1Comments@noaa.gov.

FOR FURTHER INFORMATION CONTACT: Amy Hapeman (LOC Nos. 19430, 23970), Carrie Hubard (LOC No. 22291), Jordan Rutland (LOC Nos. 23673, 23772, 23782), Courtney Smith (LOC Nos. 18689, 18959, 19826, 23546), and Sara Young (LOC No. 23253), at (301) 427-8401.

SUPPLEMENTARY INFORMATION: The requested LOCs have been issued under the authority of the Marine Mammal Protection Act of 1972, as amended (16 U.S.C. 1361 et seq.), and the regulations governing the taking and importing of marine mammals (50 CFR part 216). The General Authorization allows for bona fide scientific research that may result only in taking by Level B harassment of marine mammals. The following LOCs were issued in Fiscal Year 2020 (October 1, 2019-September 30, 2020).

File No. 23253: Issued to Pacific Mammal Research (Principal Investigator [PI]: Cindy Elliser, Ph.D.), 1513 A Avenue, Anacortes, Washington, 98221, on December 23, 2019, this study supplements current land-based visual and photo-identification/behavior surveys with boat-based photo-identification/behavior surveys and unmanned aircraft systems (UAS) surveys for population monitoring of harbor porpoise (Phocoena phocoena) and harbor seals (Phoca vitulina) in the inland waters of Washington. The LOC expires on December 31, 2024.

File No. 18689: The LOC, held by the Wild Dolphin Project (PI: Denise Herzing, Ph.D.), P.O. Box 8436, Jupiter, Florida 33468, was extended on January 30, 2020, for approximately 6 months while the holder's new application (File No. 23673) was in process (see below). The LOC authorized vessel surveys, photo-identification, and behavioral observations on bottlenose (Tursiops truncatus) and Atlantic spotted (Stenella frontalis) dolphins and 12 other range-wide, non-Endangered Species Act (ESA) listed cetacean species within the coastal and offshore waters of southeast Florida. The objectives of the research did not change. This LOC was subsequently terminated on May 26, 2020, when a new LOC (No. 23673; see below) was issued to Dr. Herzing.

File No. 18959: The LOC, held by Ruth Carmichael, Ph.D., Dauphin Island Sea Lab, 101 Bienville Blvd., Dauphin Island, Alabama 36528, was extended on March 5, 2020, for approximately 3 months while the holder's new application (File No. 23772) was in process (see below). The LOC authorized vessel-based surveys of bottlenose dolphins for behavioral observations, photo-identification, and photography/videography. The objectives are to determine population dynamics, abundance, movement patterns, social structure, and behavioral patterns of bottlenose dolphins in the northern Gulf of Mexico. This LOC was subsequently terminated on June 16, 2020, when a new LOC (No. 23772; see below) was issued to Dr. Carmichael.

File No. 23546: Issued to Donna Hauser, Ph.D., University of Alaska Fairbanks, 2160 Koyukuk Drive, P.O. Box 757340, Fairbanks, Alaska 99775, on March 24, 2020. The LOC authorizes the close approach of spotted seals (Phoca largha) in coastal haulouts in the Chukchi and Beaufort Seas of northern Alaska using ground and UAS surveys to conduct photo-identification, behavioral observations and monitoring, and remote video monitoring. Research objectives are to investigate the distribution, habitat use, foraging ecology, health, population structure, behavior, and abundance. Scat, spew, shed skin or hair may also be collected. The LOC expires on April 1, 2025.

File No. 23673: Issued to the Wild Dolphin Project (PI: Denise Herzing, Ph.D.), on May 26, 2020, to conduct vessel-based surveys for counts, photo-identification, photography, and observation on 13 species: Atlantic spotted, bottlenose, Fraser's (Lagenorhyncus hosei), pantropical spotted (Stenella attenuatta), Risso's (Grampus griseus), spinner (Stenella longirostris), striped (Stenella coeruleoalba), and unidentified lagenorhynchine (Lagenorhyncus spp.) dolphins; false killer (Pseudorca crassidens), unidentified beaked (Ziphius cavirostris and Mesoplodon spp.), long-finned pilot (Globicephala melas), short-finned pilot (Globicephala macrorhynchus), and unidentified Kogia (dwarf or pygmy sperm whale; Kogia spp.) whales. Research will take place within Florida waters of the Atlantic Ocean and Gulf of Mexico from Martin County through the Florida Keys including in the Intracoastal Waterway, coastal waters, and offshore waters. The LOC expires on May 31, 2025.

File No. 23772: Issued to Ruth Carmichael, Ph.D., Dauphin Island Sea Lab, on June 16, 2020, to conduct vessel-based surveys of bottlenose dolphins for behavioral observations, photo-identification, and photography/videography. The objectives are to determine population dynamics, abundance, movement patterns, social structure, and behavioral patterns of bottlenose dolphins in the northern Gulf of Mexico. This LOC expires June 30, 2020.

File No. 19430: The LOC, held by Jonathan Scordino, Makah Tribe, Makah Fisheries Management, P.O. Box 115, 150 Resort Drive, Neah Bay, WA 98357, was extended on July 21, 2020, for approximately 2 months while the holder's new application (File No. 23970, see below) was in process. The LOC authorizes vessel surveys of cetaceans and vessel and ground surveys (including scat collection) of pinnipeds in Washington State, with the primary study area at the northwest tip of the Olympic Peninsula. The purposes of the research are to: (1) Document the abundance and seasonal distribution patterns of marine mammals in this area, (2) determine diet overlap between certain marine mammal species and fisheries, (3) analyze scat for saxitoxin and domoic acids from harmful algal blooms, and (4) monitor the rate and cause of entanglements for pinnipeds. The extended LOC expired on September 30, 2020.

File No. 19826: The LOC, issued to Deanna Rees, U.S. Navy, Naval Facilities Engineering Command Atlantic, 6500 Hampton Blvd., Norfolk, Virginia 23508, was extended on July 21, 2020, for approximately 4 months so that the researchers can complete their field season conducting ground surveys, photo-identification, and behavioral observations of gray (Halichoerus grypus grypus), harbor, and harp (Phoca groenlandica) seals in the lower Chesapeake Bay, Virginia, and Narragansett Bay, Rhode Island waters. The purpose of the research is to investigate site fidelity and movement among haul-out locations, and to improve baseline knowledge of pinniped occurrence in areas adjacent to Navy training and testing areas. The extended LOC expires on May 31, 2021.

File No. 22291: Issued to Barbara Brunnick, Ph.D., Palm Beach Dolphin Project, Taras Oceanographic Foundation, 5905 Stonewood Court, Jupiter, Florida 33468, on June 30, 2020, to conduct vessel surveys for photo-identification, behavioral observations, photography, and videography of cetaceans in the near shore coastal waters of Palm Beach and Martin Counties, Florida. The objectives of the research are to document the abundance, distribution, population dynamics, health, and habitat utilization of bottlenose dolphins and Atlantic spotted dolphins within the study area. Other cetacean species that may be studied if encountered are: Clymene dolphin (Stenella clymene), dwarf and pygmy sperm whales, melon-headed whale (Peponocephala electra), pantropical spotted dolphin, rough-toothed dolphin (Steno bredanensis), short-beaked common dolphin (Delphinus delphis delphis), short-finned pilot whale, spinner dolphin, and striped dolphin. The LOC expires on June 30, 2025.

File No. 23782: Issued to Janet Mann, Ph.D., Georgetown University, Reiss Science Room 406, 3700 O St. NW, Washington, DC 20057, on June 30, 2020 to conduct vessel-based surveys for behavioral observations, photo-identification, passive acoustics, UAS operations, and photography/videography of bottlenose dolphins in the Potomac River off the Northern Neck of Virginia. The objectives are to estimate seasonal abundance, habitat use, ranging patterns, seasonal site fidelity, dolphin-human interactions, behavioral ecology, and social structure of bottlenose dolphins. The LOC expires on June 30, 2025.

File No. 23970: Issued to Jonathan Scordino, Makah Tribe, Makah Fisheries Management, on September 30, 2020, to conduct (1) vessel surveys of 20 cetacean species for close approach; photography/video; photo-identification; behavioral observations; sloughed skin and feces collection; and focal follows in waters from California to Washington and Alaska; and (2) vessel and ground surveys of 6 pinniped species for counts, close approach, photography/video, behavioral observations, and scat collection in Washington waters. The objective is to document marine mammal abundance, seasonal distribution patterns, vital rates, diet, mixing ratios, genetics, and interactions with humans. The LOC replaces No. 19430 and expires on September 30, 2025.

In compliance with the National Environmental Policy Act of 1969 (42 U.S.C. 4321 et seq.), a final determination has been made that the activities are categorically excluded from the requirement to prepare an environmental assessment or environmental impact statement.

Dated: November 4, 2020.
Julia Harrison,
Chief, Permits and Conservation Division, Office of Protected Resources, National Marine Fisheries Service.

[FR Doc. 2020-24816 Filed 11-6-20; 8:45 am]

BILLING CODE 3510-22-P